DEPARTMENT OF COMMERCE

National Oceanic and Atmospheric Administration

RIN 0648-XX04

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Law Enforcement Advisory Panel (LEAP) in North Charleston, SC. See SUPPLEMENTARY INFORMATION.

DATES: The meeting will take place August 10-11, 2010. The LEAP will meet from 1:30 p.m. to 5 p.m. on August 10, and from 9 a.m. until 5 p.m. on August 11, 2010.

ADDRESSES: The meeting will be held at the Hilton Garden Inn, 5265 International Boulevard, North Charleston, SC; telephone: (843) 308-9330.

Council address: South Atlantic Fishery Management Council, 4055 Faber Place Drive, Suite 201, N. Charleston, SC, 29405.

FOR FURTHER INFORMATION CONTACT: Kim Iverson, Public Information Officer; telephone: (843) 571-4366 or toll free (866) SAFMC-10; fax: (843) 769-4520; email: kim.iverson@safmc.net.

SUPPLEMENTARY INFORMATION: The LEAP will select a vice-chairman, establish criteria for selection of a Law Enforcement Officer of the Year Award, receive a presentation on Surveillance and Enforcement of Remote Marine Protected Areas (SERMA) in the South Atlantic, and receive updates on state enforcement efforts of 2010 snapper grouper fishery closures. The SERMA effort in the South Atlantic region is part of a larger effort by the Marine Conservation Biology Institute (MCBI) which addresses the challenges of enforcing regulations within the vast new Marine Protected Areas that are emerging around the globe. To address needs specific to the South Atlantic region, MCBI is conducting a comprehensive review of federal and state law enforcement assets in the region. A South Atlantic workshop is being planned in for 2011 to address use of current and emerging technologies for effective surveillance, increase collaboration between law enforcement agencies, incorporate law enforcement suggestions into regulations, disseminate technology information to law enforcement personnel in the field and discuss approaches to increase compliance. The LEAP will develop recommendations to the Council on how to apply SERMA efforts in the region to accomplish the above objectives.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 3 days prior to the meeting.

Note: The times and sequence specified in this agenda are subject to change.

Dated: June 17, 2010.
Tracey L. Thompson,
Acting Director, Office of Sustainable Fisheries, National Marine Fisheries Service.

[FR Doc. 2010-15104 Filed 6-22-10; 8:45 am]

BILLING CODE 3510-22-S